DEPARTMENT OF THE INTERIOR

Geological Survey

[GX18LC00BM3FD00; OMB Control Number 1028-0079/Renewal]

Agency Information Collection Activities; Submission to the Office of Management and Budget for Review and Approval; North American Breeding Bird Survey

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before November 13, 2018.

ADDRESSES: Send written comments on this information collection request (ICR) to the Office of Management and Budget's Desk Officer for the Department of the Interior by email at OIRA_Submission@omb.eop.gov; or via facsimile to (202) 395-5806. Please provide a copy of your comments to USGS, Information Collections Clearance Officer, 12201 Sunrise Valley Drive, MS 159, Reston, VA 20192; or by email to gs-info_collections@usgs.gov. Please reference OMB Control Number 1028-0079 in the subject line of your comments.

FOR FURTHER INFORMATION CONTACT: To request additional information about this ICR, contact Keith Pardieck by email at kpardieck@usgs.gov or by telephone at 301-497-5843. You may also view the ICR at http://www.reginfo.gov/public/do/PRAMain.

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on June 21, 2018 (FR 83, Number 120, Pages 28860-28861). We did receive one comment but the comment did not address the collection of information on breeding birds.

We are again soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you may ask us in your comment to withhold your personal identifying information from public review, we cannot guarantee that we will be able to do so.

Abstract: Respondents supply the U.S. Geological Survey with avian population data for more than 600 North American bird species. The survey data, resulting population trend estimates, and relative abundance estimates will be made available via the internet and through special publications, for use by Government agencies, industry, education programs, and the general public. We will protect information from respondents considered proprietary under the Freedom of Information Act (5 U.S.C. 552) and its' implementing regulations (43 CFR part 2), and under regulations at 30 CFR 250.197, “Data and information to be made available to the public or for limited inspection.” Responses are voluntary. No questions of a “sensitive” nature are asked.

Title of Collection: North American Breeding Bird Survey.

OMB Control Number: 1028-0079.

Form Number: None.

Type of Review: Extension of a currently approved collection.

Respondents/Affected Public: General public skilled in bird identification.

Total Estimated Number of Annual Respondents: 1,600.

Total Estimated Number of Annual Responses: 2,600.

Estimated Completion Time per Response: 11 hours.

Total Estimated Number of Annual Burden Hours: 28,600.

Respondent's Obligation: Voluntary.

Frequency of Collection: Annually.

Total Estimated Annual Non-hour Burden Cost: $141,700. Mileage costs are on average $54.50 per response, based on approximate 100-mile round trip for data collection per response and 2018 federal mileage rate of $0.545 per mile.

An agency may not conduct or sponsor and a person is not required to respond to a collection of information unless it displays a currently valid OMB control number.

The authority for this action is the Paperwork Reduction Act of 1995 (44 U.S.C. 3501, et seq.).

John French,
Patuxent Wildlife Research Center Director.

[FR Doc. 2018-22040 Filed 10-10-18; 8:45 am]

BILLING CODE 4338-11-P